DEPARTMENT OF COMMERCE

National Oceanic and Atmospheric Administration

RIN 0648-XE718

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will hold a public meeting on July 26, 2016.

DATES: The meeting will be at 1 p.m. on Tuesday, July 26, 2016, and end at 5 p.m. on Thursday, July 28, 2016, to view the agenda, see SUPPLEMENTARY INFORMATION.

ADDRESSES: The meeting will be held in the Susitna Room, at The Coast International Inn, 3450 Aviation Avenue., Anchorage, Alaska 99502. Teleconference number is (907) 271-2896.

Council address: North Pacific Fishery Management Council, 605 W. 4th Ave., Suite 306, Anchorage, AK 99501-2252; telephone (907) 271-2809.

FOR FURTHER INFORMATION CONTACT: Diana Evans, Council staff; telephone: 907-271-2809.

SUPPLEMENTARY INFORMATION:

Agenda

Tuesday, July 26, 2016 Through Thursday, July 28, 2016

The agenda will include an update on the 2016 pre-implementation program, briefing on Northeast and West coast EM (electronic monitoring) programs, review of draft EM analysis, development of the 2017 pre-implementation plan, and other business and scheduling. The Agenda is subject to change, and the latest version will be posted at http://www.npfmc.org/.

Special Accommodations

These meetings are physically accessible to people with disabilities. Requests for sign language interpretation or other auxiliary aids should be directed to Shannon Gleason, at (907) 271-2809, at least 7 working days prior to the meeting date.

Authority: 16 U.S.C. 1801 et seq.

Dated: July 6, 2016.
Tracey L. Thompson,
Acting Director, Office of Sustainable Fisheries, National Marine Fisheries Service.

[FR Doc. 2016-16308 Filed 7-8-16; 8:45 am]

BILLING CODE 3510-22-P